DEPARTMENT OF TRANSPORTATION

Federal Aviation Administration

Executive Committee of the Aviation Rulemaking Advisory Committee; Meeting

AGENCY: Federal Aviation Administration (FAA), DOT.

ACTION: Notice of meeting.

SUMMARY: The FAA is issuing this notice to advise the public of a meeting of the Executive Committee of the Federal Aviation Administration Aviation Rulemaking Advisory Committee.

DATES: The meeting is scheduled for November 7, 2002, at 10 a.m.

ADDRESSES: The meeting will be held at Federal Aviation Administration, 800 Independence Avenue, SW., Washington, DC, 10591, 10th floor, McCracken Room.

FOR FURTHER INFORMATION CONTACT: Gerri Robinson, Federal Aviation Administration, 800 Independence Avenue, SW., Washington, DC 20591, telephone (202) 267-9678; fax (202) 267-5075; e-mail Gerri.Robinson@faa.gov.

SUPPLEMENTARY INFORMATION: Pursuant to section 10(a)(2) of the Federal Advisory Committee Act (Pub. L. 92-463; 5 U.S.C. app. II), notice is hereby given of a meeting of the Executive Committee to be held on November 7, 2002, at the Federal Aviation Administration, 800 Independence Avenue, SW., Washington, DC, 20591. The agenda will include:

• Status of Fuel Tank Recommendation.

• AVR Priority Process.

• Department Internet RulemakingTracking System.

• Green Book Changes.

• Issue Area Status Reports from Assistant Chairs.

• Remarks from other EXCOM members.

• Committee Schedule for 2003.

The FAA will brief ARAC on the status of the recommendation forwarded to the FAA from the Fuel Tank Inerting Harmonization Working Group on March 29, 2002, and pending changes to the ARAC Operations Manual.

Attendance is open to the interested public but will be limited to the space available. The FAA will arrange teleconference capability for individuals wishing to join in by teleconference if we receive that notification by October 31, 2002. Arrangements to participate by teleconference can be made by contacting the person listed in the FOR FURTHER INFORMATION CONTACT section. Callers outside the Washington metropolitan area will be responsible for paying long-distance charges.

The public must arrange by October 31 to present oral statements at the meeting. The public may present written statements to the executive committee at any time by providing 25 copies to the Executive Director, or by bringing the copies to the meeting.

If you are in need of assistance or require a reasonable accommodation for this meeting, please contact the person listed under the heading FOR FURTHER INFORMATION CONTACT.

Issued in Washington, DC, on October 22, 2002.
Anthony F. Fazio,
Executive Director, Aviation Rulemaking Advisory Committee.

[FR Doc. 02-27428 Filed 10-25-02; 8:45 am]

BILLING CODE 4910-13-P